DEPARTMENT OF VETERANS AFFAIRS

National Research Advisory Council, Notice of Meeting

The Department of Veterans Affairs (VA) gives notice under the Federal Advisory Committee Act, 5 U.S.C. Ch. 10, that the National Research Advisory Council (NRAC) will hold a meeting on Monday, September 15, 2025, at the Rocky Mountain Regional Medical Center at 1700 North Wheeling Street. Aurora, Colorado 80045. A virtual attendance option is available via Microsoft Teams. The teleconference number is 1-872-701-0185, Phone Conference ID: 198 255 794# or the meeting link is: https://teams.microsoft.com/l/meetup-join/19%3ameeting_MzFjYjUzNDgtNjY2NC00NDNiLWI3OTYtODkxMzMwNzg0NWVk%40thread.v2/0?context=%7b%22Tid%22%3a%22e95f1b23-abaf-45ee-821d-b7ab251ab3bf%22%2c%22Oid%22%3a%22bbe000de-64c3-4465-99a0-83e8fddd9836%22%7d.

The purpose of NRAC is to advise the Secretary on research conducted by the Veterans Health Administration, including policies and programs targeting the high priority of Veterans' health care needs.

The meeting will be held at 11:00 a.m. and end at approximately 4:30 p.m. Mountain Standard Time. This meeting is open to the public and will include time reserved for public comments at the end of the meeting. The public comment period will be 30 minutes. Individual stakeholders will be given 3 to 5 minutes to express their comments.

On September 15, 2025, the agenda will include a summary of the previous meeting, final actions regarding NRAC's recommendation to the Secretary regarding 18 U.S.C. 208, conflict of interest; presentations from the NRAC subcommittees; and public comments.

Members of the public may submit written statements for review by the NRAC in advance of the meeting. Public comments may be received no later than close of business September 2, 2025, for inclusion in the official meeting record. Please send statements to Amanda Garcia, Designated Federal Officer, Office of Research and Development (14RD), Department of Veterans Affairs, 811 Vermont Avenue NW, Washington, DC 20420, at 202-304-3540, or Amanda.Garcia@va.gov. Any member of the public seeking additional information should contact Amanda Garcia at the above phone number or email address noted above.

Dated: August 26, 2025.
LaTonya L. Small,
Federal Advisory Committee Management Officer.

[FR Doc. 2025-16551 Filed 8-27-25; 8:45 am]

BILLING CODE 8320-01-P